DEPARTMENT OF VETERANS AFFAIRS

38 CFR Part 17

RIN 2900-AP11

Exempting Mental Health Peer Support Services From Copayments

AGENCY: Department of Veterans Affairs.

ACTION: Direct final rule; confirmation of effective date.

SUMMARY: The Department of Veterans Affairs (VA) published a direct final rule amending its regulation that governs VA services that are not subject to copayment requirements for inpatient hospital care or outpatient medical care. Specifically, the regulation is amended to exempt mental health peer support services from having any required copayment. VA received no adverse comments concerning the direct final rule or its companion substantially identical proposed rule published in the Federal Register on the same date. This document confirms that the direct final rule became effective on January 27, 2015. In a companion document in this issue of the Federal Register, we are withdrawing as unnecessary the proposed rule.

DATES: Effective Date: The effective date of January 27, 2015, for the direct final rule published November 28, 2014, 79 FR 70938, is confirmed.

FOR FURTHER INFORMATION CONTACT: Kristin J. Cunningham, Director Business Policy, Chief Business Office (10NB6), Veterans Health Administration, Department of Veterans Affairs, 810 Vermont Ave. NW., Washington, DC 20420; (202) 382-2508. (This is not a toll-free number.)

SUPPLEMENTARY INFORMATION: In a direct final rule published in the Federal Register on November 28, 2014, 79 FR 70938, VA amended 38 CFR 17.108 to eliminate copayments for mental health peer support services. VA published a companion substantially identical proposed rule at 79 FR 70941, on the same date to serve as a proposal for the revisions in the direct final rule in case adverse comments were received. The direct final rule and proposed rule each provided a 60-day comment period that ended on January 27, 2015. No adverse comments were received. Six comments that supported the rulemaking were received from the general public. One commenter also urged VA to exempt evidence-based, cost-effective primary care services from having a required copayment. This comment is outside the scope of this rulemaking, and therefore, VA is not making any changes to this rulemaking based on this comment.

Under the direct final rule procedures that were described in 79 FR 70938 and 79 FR 70941, the direct final rule became effective on January 27, 2015, because no adverse comments were received within the comment period. In a companion document in this issue of the Federal Register, VA is withdrawing the proposed rulemaking, RIN 2900-AP10, published at 79 FR 70941, as unnecessary.

Signing Authority

The Secretary of Veterans Affairs, or designee, approved this document and authorized the undersigned to sign and submit the document to the Office of the Federal Register for publication electronically as an official document of the Department of Veterans Affairs. Robert L. Nabors II, Chief of Staff, Department of Veterans Affairs, approved this document on October 26, 2015, for publication.

Dated: November 2, 2015.
Michael P. Shores,
Chief Impact Analyst, Office of Regulation Policy & Management, Office of the General Counsel, Department of Veterans Affairs.

[FR Doc. 2015-28259 Filed 11-4-15; 8:45 am]

BILLING CODE 8320-01-P